DEPARTMENT OF HEALTH AND HUMAN SERVICES

Centers for Disease Control and Prevention

Notice of Award of a Single-Source Cooperative Agreement To Fund the Ho Chi Minh City Department of Health (HCMC DOH), Vietnam

AGENCY: Centers for Disease Control and Prevention (CDC), Department of Health and Human Services (HHS).

ACTION: Notice.

SUMMARY: The Centers for Disease Control and Prevention (CDC), located within the Department of Health and Human Services (HHS), announces the award of approximately $2,000,000 for Year 1 of funding to the Ho Chi Minh City Department of Health (HCMC DOH). The award will strengthen the capacity of the HCMC DOH to provide sustainable evidence-based effective HIV prevention, care and treatment services. As Ho Chi Minh City contributes to 22.6% of the HIV burden, HCMC DOH remains critical to the success of HIV program in Vietnam. This NOFO will contribute directly to the national HIV prevention, care and treatment goals by supporting direct services and will support long-term sustainability of the HIV response through capacity building and technical assistance (TA). Funding amounts for years 2-5 will be set at continuation.

DATES: The period for this award will be September 30, 2022 through September 29, 2027.

FOR FURTHER INFORMATION CONTACT: Amy Bailey, Center for Global Health, Centers for Disease Control and Prevention, 4 Le Duan, District 1, Ho Chi Minh City, Vietnam, Telephone: 800-232-6348, E-Mail: fue8@cdc.gov.

SUPPLEMENTARY INFORMATION: The single-source award will strengthen the capacity of the HCMC DOH to provide sustainable, evidence-based, effective HIV/AIDS prevention, care and treatment services.

HCMC DOH is in a unique position to conduct this work as it is mandated to advise and assist the City People's Committee in state management of health and in terms of legal authority and credibility among Vietnamese health institutions, to give direction, guide, coordinate and implement all public health including HIV/AIDS activities in HCMC. As Ho Chi Minh City (HCMC) contributes to 22.6% of the HIV burden, HCMC DOH remains critical to the success of HIV program in Vietnam. This NOFO will contribute directly to the national HIV prevention, care, and treatment goals by supporting direct services and will support long-term sustainability of the HIV response through capacity building and TA.

Summary of the Award

Recipient: Ho Chi Minh City Department of Health (HCMC DOH).

Purpose of the Award: The purpose of this award is to strengthen the capacity of the HCMC DOH to provide sustainable evidence-based effective HIV prevention, care and treatment services.

Amount of Award: The approximate year 1 funding amount will be $2,000,000 in Federal Fiscal Year (FFY) 2022 funds, subject to the availability of funds. Funding amounts for years 2-5 will be set at continuation.

Authority: This program is authorized under Public Law 108-25 (the United States Leadership Against HIV AIDS, Tuberculosis and Malaria Act of 2003).

Period of Performance: September 30, 2022 through September 29, 2027.

Dated: February 15, 2022.
Terrance Perry,
Chief Grants Management Officer, Centers for Disease Control and Prevention.

[FR Doc. 2022-03628 Filed 2-18-22; 8:45 am]

BILLING CODE 4163-18-P